DEPARTMENT OF TRANSPORTATION

Federal Aviation Administration

Notice of Opportunity for Public Comment on Change in Use of Aeronautical Property at Tallahassee International Airport

AGENCY: Federal Aviation Administration (FAA), DOT.

ACTION: Request for public comment.

SUMMARY: The Federal Aviation Administration is requesting public comment on a request by the City of Tallahassee to change a portion of airport property from aeronautical to non-aeronautical use at the Tallahassee International Airport, Tallahassee City, Florida. The request consists of approximately 317.37 acres of vacant property located on the western side of the airport property boundary. Present fair market value of the property is $157,098 annually. Documents reflecting the Sponsor's request are available, by appointment only, for inspection at the Tallahassee International Airport and the FAA Airports District Office.

DATES: Comments are due on or before June 19, 2019.

ADDRESSES: Documents are available for review at Tallahassee International Airport, and the FAA Orlando Airports District Office, 8427 SouthPark Circle, Suite 524, Orlando, FL 32819. Written comments on the Sponsor's request must be delivered or mailed to: Pedro Blanco, Community Planner, FAA Orlando Airports District Office, 8427 SouthPark Circle, Suite 524, Orlando, FL 32819.

FOR FURTHER INFORMATION CONTACT: Pedro Blanco, Community Planner, FAA Orlando Airports District Office, 8427 SouthPark Circle, Suite 524, Orlando, FL 32819.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Bart Vernace,
Manager, Orlando Airports District Office, Southern Region.

[FR Doc. 2019-10345 Filed 5-17-19; 8:45 am]

BILLING CODE 4910-13-P